DEPARTMENT OF COMMERCE

International Trade Administration

[A-570-983]

Drawn Stainless Steel Sinks From the People's Republic of China: Partial Rescission of Antidumping Duty Administrative Review; 2014-2015

AGENCY: Enforcement and Compliance, International Trade Administration, Commerce.

SUMMARY: The Department of Commerce (the Department) is partially rescinding its administrative review of the antidumping duty order on drawn stainless steel sinks from the People's Republic of China (PRC) for the period of review (POR) April 1, 2014, through March 31, 2015.

DATES: Effective December 17, 2015.

FOR FURTHER INFORMATION CONTACT: Brian Smith or Ross Belliveau, Enforcement and Compliance, International Trade Administration, U.S. Department of Commerce, 1401 Constitution Avenue NW., Washington, DC 20230; telephone: (202) 482-1766 or (202) 482-4952, respectively.

SUPPLEMENTARY INFORMATION:

Background

On April 1, 2015, the Department published in the Federal Register a notice of “Opportunity to Request Administrative Review” of the antidumping duty order on drawn stainless steel sinks from the PRC for the POR (AD order).¹

¹ See Antidumping or Countervailing Duty Order, Finding, or Suspended Investigation; Opportunity to Request Administrative Review, 80 FR 17392 (April 1, 2015).

In April 2015, the Department received multiple timely requests to conduct an administrative review of the antidumping duty order on drawn stainless steel sinks from the PRC.

On May 26, 2015, in accordance with section 751(a) of the Tariff Act of 1930, as amended (the Act), the Department published in the Federal Register a notice of initiation of an administrative review of the AD order.² The administrative review was initiated with respect to 26 companies, and covers the period April 1, 2014, through March 31, 2015. Subsequent to the initiation of the administrative review, the requesting parties timely withdrew their review requests for 10 of these companies, as discussed below.

² See Initiation of Antidumping and Countervailing Duty Administrative Reviews, 80 FR 30041 (May 26, 2015) (Initiation Notice).

Partial Rescission of Review

Pursuant to 19 CFR 351.213(d)(1), the Department will rescind an administrative review, in whole or in part, if a party that requested a review withdraws its request within 90 days of the date of publication of notice of initiation of the requested review. All requesting parties withdrew their respective requests for an administrative review of the following companies within 90 days of the date of publication of the Initiation Notice: ³ Elkay (China) Kitchen Solutions, Co., Ltd.; Guangdong G-Top Import & Export Co., Ltd.; Guangdong New Shichu Import & Export Co., Ltd.; Guangdong Yingao Kitchen Utensils Co., Ltd.; Jiangmen New Star Hi-Tech Enterprise Ltd.; Jiangmen Pioneer Import & Export Co., Ltd.; Primy Cooperation Limited; Tianjin ZNJ Industries Co., Ltd.; Xinhe Stainless Steel Products Co., Ltd.; and Zhuhai Kohler Kitchen & Bathroom Products Co., Ltd. Accordingly, the Department is rescinding this review, in part, with respect to these companies, in accordance with 19 CFR 353.213(d)(1).⁴

³ See Letter from Tianjin ZNJ Industries Co., Ltd. to the Department, dated June 26, 2015; Letter from Hajoca Corporation to the Department, dated July 31, 2015; Letters from Elkay Manufacturing Company (the Petitioner) to the Department dated July 14, August 7, and August 24, 2015; Letter from Guangdong Yingao Kitchen Utensils Co., Ltd. to the Department, dated August 11, 2015; and Letter from Guangdong New Shichu Import & Export Co., Ltd. to the Department, dated August 24, 2015.

⁴ As stated in Change in Practice in NME Reviews, the Department will no longer consider the non-market entity as an exporter conditionally subject to administrative reviews. See Antidumping Proceedings; Announcement of Change in Department Practice for Respondent Selection in Antidumping Duty Proceedings and Conditional Review of the Nonmarket Economy Entity in NME Antidumping Duty Proceedings, 78 FR 65963 (November 3, 2013).

The instant review will continue with respect to the following companies: B&R Industries Limited; Feidong Import and Export Co., Ltd.; Foshan Shunde Minghao Kitchen Utensils Co., Ltd.; Franke Asia Sourcing Ltd.; Grand Hill Work Company; Guangdong Dongyuan Kitchenware Industrial Co., Ltd.; Hangzhou Heng's Industries Co., Ltd.; J&C Industries Enterprise Limited; Jiangmen Hongmao Trading Co., Ltd.; Jiangxi Zoje Kitchen Utensils Co., Ltd.; Ningbo Oulin Kitchen Utensils Co., Ltd.; Shenzhen Kehuaxing Industrial Ltd.; Shunde Foodstuffs Import & Export Company Limited of Guangdong; Yuyao Afa Kitchenware Co., Ltd.; Zhongshan Newecan Enterprise Development Corporation Limited; and Zhongshan Superte Kitchenware Co., Ltd./Zhongshan Superte Kitchenware Co., Ltd. invoiced as Foshan Zhaoshun Trade Co., Ltd.

Assessment

The Department will instruct U.S. Customs and Border Protection (CBP) to assess antidumping duties on all appropriate entries. For the companies for which this review is rescinded, antidumping duties shall be assessed at rates equal to the cash deposit of estimated antidumping duties required at the time of entry, or withdrawal from warehouse, for consumption, in accordance with 19 CFR 351.212(c)(1)(i). The Department intends to issue appropriate assessment instructions directly to CBP 15 days after the date of publication of this notice in the Federal Register.

Notification to Importers

This notice serves as the only reminder to importers whose entries will be liquidated as a result of this rescission notice, of their responsibility under 19 CFR 351.402(f)(2) to file a certificate regarding the reimbursement of antidumping duties and/or countervailing duties prior to liquidation of the relevant entries during this review period. Failure to comply with this requirement may result in the presumption that reimbursement of antidumping duties and/or countervailing duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

This notice is published in accordance with section 751 of the Act and 19 CFR 351.213(d)(4).

Dated: December 11, 2015.
Christian Marsh,
Deputy Assistant Secretary for Antidumping and Countervailing Duty Operations.

[FR Doc. 2015-31775 Filed 12-16-15; 8:45 am]

BILLING CODE 3510-DS-P